OFFICE OF PERSONNEL MANAGEMENT

5 CFR Part 532

RIN 3206-AM49

Prevailing Rate Systems; Abolishment of Monmouth, NJ, as a Nonappropriated Fund Federal Wage System Wage Area

AGENCY: U.S. Office of Personnel Management.

ACTION: Interim rule with request for comments.

SUMMARY: The U.S. Office of Personnel Management is issuing an interim rule to abolish the Monmouth, New Jersey, nonappropriated fund (NAF) Federal Wage System (FWS) wage area and redefine Monmouth County, NJ, to the Burlington, NJ, NAF wage area. These changes are necessary because the closure of Fort Monmouth will leave the Monmouth wage area without an activity having the capability to conduct a local wage survey.

DATES: Effective date: This regulation is effective on August 25, 2011. We must receive comments on or before September 26, 2011. Applicability date: FWS employees remaining in the Monmouth wage area will be transferred to the Burlington wage area schedule on the first day of the first applicable pay period beginning on or after October 15, 2011.

ADDRESSES: Send or deliver comments to Jerome D. Mikowicz, Deputy Associate Director for Pay and Leave, Employee Services, U.S. Office of Personnel Management, Room 7H31, 1900 E Street, NW., Washington, DC 20415-8200; email pay-leave-policy@opm.gov; or FAX: (202) 606-4264.

FOR FURTHER INFORMATION CONTACT: Madeline Gonzalez, (202) 606-2838; email pay-leave-policy@opm.gov; or FAX: (202) 606-4264.

SUPPLEMENTARY INFORMATION: The Monmouth, New Jersey, nonappropriated fund (NAF) Federal Wage System (FWS) wage area is presently composed of one survey county, Monmouth County, NJ. Under section 532.219 of title 5, Code of Federal Regulations, the U.S. Office of Personnel Management (OPM) may establish an NAF wage area when there are a minimum of 26 NAF wage employees in the survey area, the local activity has the capability to host annual local wage surveys, and the survey area has at least 1,800 private enterprise employees in establishments within survey specifications. The Department of Defense (DOD) notified OPM that the imminent closure of Fort Monmouth will leave the Monmouth NAF wage area without an activity having the capability to conduct a local wage survey. After the closure of Fort Monmouth, only 12 employees at Naval Weapons Station Earle (NWS Earle) will remain in the wage area. DOD recommended that OPM abolish the Monmouth NAF FWS wage area and redefine Monmouth County to the Burlington, NJ, NAF wage area.

Since Monmouth County will have continuing NAF employment and does not meet the regulatory criteria under 5 CFR 532.219 to be a separate survey area, it must be an area of application. In defining counties as area of application counties, OPM considers the following criteria:

• Proximity of largest facilities activity in each county;

• Transportation facilities and commuting patterns; and

• Similarities of the counties in: overall population; private employment in major industry categories; and kinds and sizes of private industrial establishments.

In selecting a wage area to which Monmouth County should be redefined, proximity favors the Burlington NAF wage area. Distance was measured from NWS Earle because after the closure of Fort Monmouth, it will be the only installation remaining in Monmouth County with NAF FWS employees. The transportation facilities and commuting patterns criteria do not favor one wage area more than another. Monmouth County resembles the Burlington survey area in both the overall population and employment criteria and in the kinds and sizes of private industrial establishments criterion. In addition, Monmouth County is adjacent to the Burlington survey area. Based on the application of the regulatory criteria, OPM has determined that Monmouth County should be redefined as an area of application to the Burlington NAF wage area.

The proposed Burlington NAF wage area will consist of one survey county, Burlington County, NJ, and six areas of application counties: New Castle County, DE, and Atlantic, Cape May, Monmouth, Ocean, and Salem Counties, NJ. FWS employees remaining in the Monmouth wage area will be transferred to the Burlington wage area schedule on the first day of the first applicable pay period beginning on or after October 15, 2011. The Federal Prevailing Rate Advisory Committee, the national labor-management committee responsible for advising OPM on matters concerning the pay of FWS employees, has reviewed and recommended these changes by consensus.

Waiver of Notice of Proposed Rulemaking and Delay in Effective Date

Pursuant to 5 U.S.C. 553(b)(3)(B) and (d)(3), I find that good cause exists to waive the general notice of proposed rulemaking. Also pursuant to 5 U.S.C. 553(d)(3), I find that good cause exists for making this rule effective in less than 30 days. This notice is being waived and the regulation is being made effective in less than 30 days because the imminent closure of Fort Monmouth will leave the Monmouth wage area without an activity having the capability to conduct a local wage survey and the remaining NAF FWS employees in Monmouth County must be transferred to a continuing wage area as soon as possible in order to prevent a gap in coverage.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
John Berry,
Director.

Accordingly, the U.S. Office of Personnel Management is amending 5 CFR part 532 as follows:

PART 532—PREVAILING RATE SYSTEMS

1. The authority citation for part 532 continues to read as follows:

Authority: 5 U.S.C. 5343, 5346; § 532.707 also issued under 5 U.S.C. 552.

Appendix B to Subpart B of Part 532—Nationwide Schedule of Nonappropriated Fund Regular Wage Surveys

2. Appendix B to subpart B is amended by removing, under the State of New Jersey, “Monmouth.”

Appendix D to Subpart B of Part 532—Nonappropriated Fund Wage and Survey Areas

3. Appendix D to subpart B is amended for the State of New Jersey by removing the wage area listing for Monmouth, New Jersey, and revising the wage area listing for Burlington, New Jersey, to read as follows:

| * * * * *
NEW JERSEY
Burlington
Survey Area
New Jersey:
Burlington
Area of application. Survey area plus:
Delaware:
New Castle
New Jersey:
Atlantic
Cape May
Monmouth
Ocean
Salem
| * * * * *

[FR Doc. 2011-21776 Filed 8-24-11; 8:45 am]

BILLING CODE 6325-39-P